DEPARTMENT OF HOUSING AND URBAN DEVELOPMENT

[Docket No. FR-4820-N-47]

Notice of Proposed Information Collection: Comment Request; Mortgagee's Application for Insurance Benefits (Multifamily Mortgage)

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject propsoal.

DATES: Comments Due Date: January 12, 2003.

ADDRESSES: Interested persons are invited to submit comments regarding this proposal. Comments should refer to the proposal by name and/or OMB Control Number and should be sent to: Wayne Eddins, Reports Management Officer, Department of Housing and Urban Development, 451 7th Street SW., L'Enfant Plaza Building, Room 8001, Washington, DC 20410, or Wayne_Eddins@hud. gov.

FOR FURTHER INFORMATION CONTACT: Victor L. Vacanti, Operating Accountant, Multifamily Claims Branch, Department of Housing and Urban Development, 451 7th Street, SW., Washington, DC 20410, telephone (202) 708-3423 ext. 2808 (this is not a toll free number) for copies of the proposed forms and other available information.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Mortgagee's Application for Insurance Benefits (Multifamily Mortgage).

OMB Control Number, if applicable: 2502-0419.

Description of the need for the information and proposed use: A leader with an insured multifamily mortgage may pay an annual insurance premium to HUD. When the mortgage goes into default, the lender may elect to file with HUD a claim for insurance benefits. A requirement of the claims filing process is the submission of an application for insurance benefits, form HUD-2747. Regulation 12 U.S.C. 1713(g) and Title II, Section 207(g) of the National Housing Act provides that, “Notwithstanding any other provision of this chapter, upon receipt, after September 2, 1964, of an application for insurance benefits on a mortgage insured under this chapter, the Secretary may terminate the mortgagee's obligation to pay premium charges on the mortgage.” This provision is further spelled out in regulation 24 CFR part 207—Subpart B, Contract Rights and Obligations at 24 CFR 207.525(d) and 24 CFR 207.258(c)(6). This information collection satisfies the preceding requirements.

Agency form numbers, if applicable: HUD-2747.

Estimation of the total numbers of hours needed to prepare the information collection including number of respondents, frequency of response, and hours of response: The estimated total number of burden hours needed to prepare the information collection is 9; the number of respondents is 110 generating approximately 110 annual responses; the frequency of response is one claim per submission; and the estimated time needed to prepare the response is 5 minutes.

Status of the proposed information collection: Extension of a currently approved collection.

Authority: The Paperwork Reduction Act of 1995, 44 U.S.C., chapter 35, as amended.

Dated: November 5, 2003.
Sean G. Cassidy,
General Deputy Assistant Secretary for Housing-Deputy Federal Housing Commissioner.

[FR Doc. 03-28450 Filed 11-12-03; 8:45 am]

BILLING CODE 4210-27-M